DEPARTMENT OF AGRICULTURE

Agricultural Marketing Service

[Doc. No. AMS-TM-23-0076]

Notice of Availability of the Final Programmatic Environmental Assessment and Finding of No Significant Impact for the AMS Organic Market Development Grant Program

AGENCY: Agricultural Marketing Service, USDA.

ACTION: Notice of availability.

SUMMARY: The Agricultural Marketing Service (AMS) announces the availability of the Final Programmatic Environmental Assessment (PEA) and Finding of No Significant Impact (FONSI) for the AMS Organic Market Development Grant Program.

FOR FURTHER INFORMATION CONTACT: Betsy Rakola, Associate Deputy Administrator, Transportation and Marketing Program; Telephone: (202) 690-1300; Email: OMDG@usda.gov.

SUPPLEMENTARY INFORMATION:

Background

The Final PEA and FONSI analyze and disclose the potential environmental impacts associated with the establishment of the Organic Market Development Grant Program (OMDG). AMS has proposed to fund grants to support the development of new and expanded organic markets by providing additional resources for businesses transitioning to organic or initiating new organic production and processing capacity. These grants will create new and improved markets for domestically produced organic products through investments in expanded certified organic processing capacity; activities that develop, maintain, or expand commercial organic markets; and organic product developments which create new uses for producers that currently lack markets.

Selected applicants for the OMDG program may invest in certified organic infrastructure and expand processing capacities, in addition to adding manufacturing, storing, transporting, wholesaling, or distribution infrastructure. Funded activities will include developing new markets to increase demand for domestically produced organic agricultural products and providing additional market networks.

The OMDG Program is authorized by authorized by section 5(e) of the Commodity Credit Corporation (CCC) Charter Act, (15 U.S.C. 714(e)). Section 5(e), as amended, authorizes USDA (through the CCC) to “increase the domestic consumption of agricultural commodities (other than tobacco) by expanding or aiding in the expansion of domestic markets or by developing or aiding in the development of new and additional markets, marketing facilities, and uses for such commodities.” Recipients of funding from this proposed program would be allowed 36 months to complete work funded by the grant awards.

The environmental impacts of funding projects to enhance existing organic processing facilities have been considered in a manner consistent with the provisions of the National Environmental Policy Act (NEPA) of 1969, Public Law 91-190, 42 U.S.C. 4321-4347, as amended.

A Final PEA and FONSI have been prepared, and based on this analysis, AMS has determined there will not be a significant impact to the human environment. As a result, an Environmental Impact Statement (EIS) has not been initiated (40 CFR 1501.6). AMS intends for this PEA to create efficiencies by establishing a framework that can be used for “tiering,” where appropriate, to project-specific actions that require additional analysis. As decisions on specific applications are made, to the extent additional NEPA analysis is required, environmental review will be conducted to supplement the analysis set forth in this PEA.

The Final PEA and FONSI are available for review online at the program website: https://www.ams.usda.gov/services/grants/omdg.

Comments

AMS published a Draft PEA for public comment on November 20, 2023. The public comment period ended on December 20, 2023. No comments were received during the designated timeframe, and as such, no substantial changes were made to the document.

Melissa Bailey,
Associate Administrator, Agricultural Marketing Service.

[FR Doc. 2024-02120 Filed 2-1-24; 8:45 am]

BILLING CODE 3410-02-P